GENERAL SERVICES ADMINISTRATION

[Notice-PBS-2020-08; Docket No. 2020-0002; Sequence No. 35]

Notice of Availability for the Final Environmental Impact Statement for the Expansion and Modernization of the San Luis I Land Port of Entry, San Luis, Arizona

AGENCY: Public Building Service (PBS), General Services Administration (GSA).

ACTION: Notice of availability and announcement of virtual public meeting.

SUMMARY: This notice announces the availability of the Final Environmental Impact Statement (FEIS), which analyzes the potential environmental impacts of a proposal by the General Services Administration (GSA) to expand and modernize the San Luis I Land Port of Entry (LPOE) located in San Luis, Arizona along the U.S.-Mexico international border. The FEIS describes the purpose of and need for the proposed action, the alternatives being considered, and the potential impacts of each alternative on the existing environment. As the lead agency for this undertaking, GSA is acting on behalf of its major tenant at the facility, the Department of Homeland Security's U.S. Customs and Border Protection (CBP).

DATES: The comment period for the FEIS ends on Monday, November 9, 2020. After this date, GSA will prepare the Record of Decision (ROD). A virtual public meeting for the FEIS will be held on Tuesday, October 20, 2020 from 4:30 p.m. to 5:30 p.m. Mountain Standard Time (MST) (3:30 p.m. to 4:30 p.m. Pacific Daylight Time (PDT)).

ADDRESSES: Interested parties are encouraged to attend and provide comments on the FEIS. The virtual public meeting will be held via a Zoom Webinar. Pre-registration is strongly encouraged and is available on the project website provided below. The meeting will include a presentation by GSA and an opportunity for interested parties to provide comments. Comments can also be provided prior to the meeting via email to osmahn.kadri@gsa.gov.

Additional information and an electronic copy of the FEIS, may be found online on the following website: https://www.gsa.gov/about-us/regions/welcome-to-the-pacific-rim-region-9/land-ports-of-entry/san-luis-i-land-port-of-entry.

FOR FURTHER INFORMATION CONTACT: Questions or comments on the FEIS should be directed to: Osmahn Kadri, Regional Environmental Quality Advisor/NEPA Project Manager, GSA, at 415-522-3617, or via email to osmahn.kadri@gsa.gov. Written comments can be mailed to: GSA San Luis EIS, c/o LMI, 7940 Jones Branch Drive, Tysons, VA 22102. All comments must be received by November 9, 2020.

SUPPLEMENTARY INFORMATION:

Background

The San Luis I LPOE is located on the U.S.-Mexico international border in the City of San Luis, Arizona. It is the westernmost LPOE in Arizona and is approximately four miles from the California border. The San Luis I LPOE was built in 1982 to accommodate noncommercial traffic to and from Mexico. The facilities at the LPOE are in deteriorated condition and are inadequate for the present volume of pedestrian and vehicle traffic. There has been a 58 percent increase in the number of personal vehicles processed since 2010. The higher volume and outdated facilities creates long wait times, leading to traffic backups in downtown San Luis.

GSA is proposing to expand and modernize the San Luis I LPOE to correct operational deficiencies imposed by deteriorating building conditions and improve the LPOE's functionality, capacity, and security. Three action alternatives, the Proposed Action, Alternative 1, and Alternative 2; and the No Action Alternative, are evaluated in the FEIS.

Proposed Action Alternative—Demolition and Redevelopment. GSA would acquire the land adjacent to the western end of the LPOE, the former Friendship Park, and the LPOE would be reconfigured to streamline CBP operations and inspection processes. GSA would demolish the old, deteriorated buildings and construct new buildings and infrastructure on the expanded site to accommodate the increasing volume of pedestrian and vehicle traffic. The Proposed Action would be implemented in a phased approach to alleviate potential disruptions to operations at the LPOE.

Alternative 1—Renovate and Modernize. GSA would not acquire former Friendship Park, but would renovate and modernize all existing facilities and infrastructure at the LPOE. The LPOE layout would remain as currently configured, and current traffic patterns entering and leaving the LPOE would remain the same.

Alternative 2—Relocate Southbound POV Processing. GSA would acquire Friendship Park and construct new facilities as described under the Proposed Action, however the outgoing traffic would be routed directly south from Archibald Street (through the former Friendship Park site) to Avenida Morelos in Mexico. The rerouting of southbound traveling vehicles directly south from Archibald Street would alleviate the need for vehicles to turn left onto Urtuzuastegui Street.

No Action Alternative—GSA would not renovate or modernize any portion of the LPOE. The LPOE would remain as-is and continue its operations in facilities as they are currently configured.

Virtual Public Meeting

Next Steps

After comments are received from the public and reviewing agencies, GSA may: (1) Give environmental approval to the Project by signing a ROD no sooner than 30 days after the FEIS is issued. In the ROD, GSA will explain all the factors that were considered in reaching its final decision, including the environmental factors. GSA will identify the environmentally preferable alternative or alternatives and may select one of the alternatives or a combination of alternatives analyzed in the EIS; (2) Undertake additional environmental studies, or (3) Abandon the Project. If the Project is given environmental approval and funding is appropriated, the GSA could design and construct all or part of the Project.

Jared Bradley,
Director, Portfolio Management Division, Pacific Rim Region, Public Buildings Service.

[FR Doc. 2020-22592 Filed 10-13-20; 8:45 am]

BILLING CODE 6820-YF-P